DEPARTMENT OF COMMERCE

Foreign-Trade Zones Board

[B-39-2022]

Foreign-Trade Zone (FTZ) 207—Richmond, Virginia; Authorization of Production Activity; voestalpine High Performance Metals LLC (Tool Steel and Specialty Metals); South Boston, Virginia

On August 25, 2022, voestalpine High Performance Metals LLC submitted a notification of proposed production activity to the FTZ Board for its facility within FTZ 207, in South Boston, Virginia.

The notification was processed in accordance with the regulations of the FTZ Board (15 CFR part 400), including notice in the Federal Register inviting public comment (87 FR 54190, September 2, 2022). On December 23, 2022, the applicant was notified of the FTZ Board's decision that no further review of the activity is warranted at this time. The production activity described in the notification was authorized, subject to the FTZ Act and the FTZ Board's regulations, including Section 400.14.

Dated: December 23, 2022.
Andrew McGilvray,
Executive Secretary.

[FR Doc. 2022-28329 Filed 12-28-22; 8:45 am]

BILLING CODE 3510-DS-P